DEPARTMENT OF AGRICULTURE

Forest Service

National Urban and Community Forestry Advisory Council

AGENCY: Forest Service, USDA.

ACTION: Notice of meeting.

SUMMARY: The National Urban and Community Forestry Advisory Council will meet in Washington, DC, February 26-28, 2004. The purpose of the meeting is to discuss emerging issues in urban and community forestry.

DATES: The meeting will be held February 26-28, 2004.

ADDRESSES: The meeting will be held at the Hotel Monaco, 700 F Street, NW, Washington, DC. Individuals who wish to speak at the meeting or to propose agenda items must send their names and proposals to Suzanne M. del Villar, Executive Assistant, National Urban and Community Forestry Advisory Council, P.O. Box 1003, Sugarloaf, CA 92386-1003. Individuals may fax their names and proposed agenda items to (909) 585-9527.

FOR FURTHER INFORMATION CONTACT: Suzanne M. del Villar, Urban and Community Forestry Staff, (909) 585-9268.

SUPPLEMENTARY INFORMATION: The meeting is open to the public. Council discussion is limited to Forest Service staff and Council members; however, persons who wish to bring urban and community forestry matters to the attention of the Council may file written statements with the Council staff before or after the meeting. Public input sessions will be provided.

Dated: December 15, 2003.
Joel D. Holtrop,
Deputy Chief, State and Private Forestry.

[FR Doc. 03-31316 Filed 12-18-03; 8:45 am]

BILLING CODE 3410-11-P